DEPARTMENT OF THE INTERIOR

Bureau of Land Management

[OR 120 5882 CD99; HAG# 6-161]

Notice of Public Meeting, Coos Bay Resource Advisory Committee Meeting

AGENCY: Bureau of Land Management, Department of the Interior.

ACTION: Notice of Bureau of Land Management (BLM) Coos Bay District Resource Advisory Committee (RAC) Meeting as identified in Section 205(f)(2) of the Secure Rural Schools and Community Self-Determination Act of 2000, Public Law 106-393.

SUMMARY: The BLM Coos Bay District RAC is scheduled to meet on August 3, 2006 from 9 a.m. until 4:30 p.m. at the BLM Coos Bay District Office. The BLM Office is located at 1300 Airport Lane in North Bend, Oregon. The purpose of this meeting will be for the RAC to recommend funding for Title II projects, as identified under Public Law 106-393. There will be an opportunity for the public to address the RAC at approximately 11 a.m. at this meeting. The RAC may also meet on August 10, 2006 for the same purpose. The need for this meeting will be dependent upon the progress made in making recommendations at the August 3, 2006 meeting. The scheduled meeting time and location for the August 10, 2006 meeting will be the same as for the meeting scheduled on August 3, 2006.

FOR FURTHER INFORMATION CONTACT: Mark Johnson, Coos Bay District Manager, at (541) 756-0100 or Glenn Harkleroad, District Restoration Coordinator, at (541) 751-4361 or glenn_harkleroad@or.blm.gov. The mailing address for the BLM Coos Bay District Office is 1300 Airport Lane, North Bend, Oregon 97459.

Dated: July 10, 2006.
Mark E. Johnson,
Coos Bay District Manager.

[FR Doc. E6-11566 Filed 7-20-06; 8:45 am]

BILLING CODE 4310-33-P